DEPARTMENT OF COMMERCE

Foreign-Trade Zones Board

[B-5-2016]

Foreign-Trade Zone (FTZ) 279—Terrebonne Parish, Louisiana; Notification of Proposed Production Activity; Thoma-Sea Marine Constructors, L.L.C. (Shipbuilding); Houma, Louisiana

The Houma-Terrebonne Airport Commission, grantee of FTZ 279, submitted a notification of proposed production activity to the FTZ Board on behalf of Thoma-Sea Marine Constructors, L.L.C. (Thoma-Sea), located in Houma, Louisiana. The notification conforming to the requirements of the regulations of the FTZ Board (15 CFR 400.22) was received on February 3, 2016.

A separate request for subzone designation at the Thoma-Sea facilities is planned and will be processed under Section 400.31 of the FTZ Board's regulations. The facilities are used for the construction and repair of oceangoing vessels. Pursuant to 15 CFR 400.14(b), FTZ activity would be limited to the specific foreign-status materials and components and specific finished products described in the submitted notification (as described below) and subsequently authorized by the FTZ Board.

Production under FTZ procedures could exempt Thoma-Sea from customs duty payments on the foreign status components used in export production. On its domestic sales, Thoma-Sea would be able to choose the duty rate during customs entry procedures that applies to oceangoing vessels (free) for the foreign status inputs noted below. Customs duties also could possibly be deferred or reduced on foreign status production equipment.

The components sourced from abroad include: plastic hoses; printed manuals; steel pipe fittings; doors; steel tanks; hatches/manholes; copper anodes; zinc rods; base metal mountings; outboard motors; parts of marine engines; parts of hydraulic pumps; hydraulic fluid pumps; compressors; portal/pedestal jib cranes; thruster parts; pressure-reducing valves; steel tank valves; vent check valves; machine parts of automated systems; electric motors; AC generators; speed drive controllers; power supplies; batteries; power cells; starter generators/motors; electric ignition starter parts; fuses; circuit boards; parts of electrical switching apparatus; insulated winding wire; liquid flow/level measuring instruments; parts of printed circuit assemblies; and, parts of measuring instruments (duty rate ranges from free to 5.7%).

Public comment is invited from interested parties. Submissions shall be addressed to the FTZ Board's Executive Secretary at the address below. The closing period for their receipt is March 23, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: February, 2, 2016.
Andrew McGilvray,
Executive Secretary.

[FR Doc. 2016-02993 Filed 2-11-16; 8:45 am]

BILLING CODE 3510-DS-P